DEPARTMENT OF THE INTERIOR

National Park Service

[2253-665]

Notice of Inventory Completion: San Francisco State University, San Francisco, CA

AGENCY: National Park Service, Interior.

ACTION: Notice.

Notice is here given in accordance with the Native American Graves Protection and Repatriation Act (NAGPRA), 25 U.S.C. 3003, of the completion of an inventory of human remains in the control of San Francisco State University, San Francisco, CA. The human remains were removed from Kern County, CA.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by San Francisco State University professional staff in consultation with representatives of the Santa Rosa Indian Community of the Santa Rosa Rancheria, California (Tachi Yokut Tribe), and the Tubatulabals of Kern Valley, a non-Federally recognized Indian group.

On an unknown date, human remains representing a minimum of one individual were removed from an unknown site (Ca-Ker-UNK (Lake Isabella)), in Kern County, CA. No known individual was identified. No associated funerary objects are present.

The human remains were found in a box labeled “No Site No., Bones, Lake Isabella, Box 1 of 1,” indicating removal from a Native American archeological site near Lake Isabella, which is located in Kern County, CA. In addition, the human remains were determined to be Native American because the mandibular dentition displayed significant attrition consistent with a prehistoric population. Native American origin was also indicated by the presence of red ochre on some of the skeletal elements. Based on ethnographic study and consultation with the Tubatulabals of Kern Valley, a non-Federally recognized Indian group, Lake Isabella is located in the historically documented territory of the Tubatulabal people. Based on consultation with the Tubatulabals of Kern Valley, a non-Federally recognized Indian group, and the Federally-recognized Santa Rosa Indian Community of the Santa Rosa Rancheria, California (Tachi Yokut Tribe), the Tubatulabal people from the Lake Isabella area are intermarried with Yokuts in the Kern County area. Descendants of these Yokuts and Tubatulabals are members of the Santa Rosa Indian Community of the Santa Rosa Rancheria, California (Tachi Yokut Tribe) and/or the Tubatulabals of Kern Valley, a non-Federally recognized Indian group.

Officials of San Francisco State University have determined, pursuant to 25 U.S.C. 3001(9), that the human remains described above represent the physical remains of one individual of Native American ancestry. Officials of San Francisco State University also have determined, pursuant to 25 U.S.C. 3001(2), that there is a relationship of shared group identity that can be reasonably traced between the Native American human remains and the Santa Rosa Indian Community of the Santa Rosa Rancheria, California (Tachi Yokut Tribe), and the Tubatulabals of Kern Valley, a non-federally recognized Indian group.

Representatives of any other Indian tribe that believes itself to be culturally affiliated with the human remains should contact Jeffrey Boland Fentress, NAGPRA Coordinator, San Francisco State University, Admin. 447, 1600 Holloway Ave., San Francisco, CA 95132, telephone (415) 338-3075, before April 14, 2011. Repatriation of the human remains to the Santa Rosa Indian Community of the Santa Rosa Rancheria, California (Tachi Yokut Tribe), may proceed after that date if no additional claimants come forward.

San Francisco State University is responsible for notifying the Picayune Rancheria of Chukchansi Indians of California; Santa Rosa Indian Community of the Santa Rosa Rancheria, California (Tachi Yokut Tribe); Table Mountain Rancheria of California; Tule River Indian Reservation of the Tule River Reservation, California; and the Tubatulabals of Kern Valley, a non-Federally recognized Indian group, that this notice has been published.

Dated: March 9, 2011.
Sherry Hutt,
Manager, National NAGPRA Program.

[FR Doc. 2011-5877 Filed 3-14-11; 8:45 am]

BILLING CODE 4312-50-P